DEPARTMENT OF COMMERCE

National Oceanic and Atmospheric Administration

Office of Oceanic and Atmospheric Research; Notice of Solicitation for NOAA Science Advisory Board Members

ACTION: Notice of solicitation for NOAA Science Advisory Board members.

SUMMARY: The Under Secretary for Oceans and Atmosphere is soliciting nominations for membership on the NOAA Science Advisory Board (SAB). The SAB is the only Federal Advisory Committee with responsibility to advise the Under Secretary of Commerce for Oceans and Atmosphere on long- and short-range strategies for research, education, and application of science to resource management and environmental assessment and prediction. The SAB was originally chartered under the Federal Advisory Committee Act, 5 U.S.C. App. 2., on September 25, 1997, with the General Services Administration's concurrence.

DATES: Resumes should be sent to the address specified and must be received by June 13, 2001.

ADDRESSES: Dr. Michael S. Uhart, Executive Director; NOAA Science Advisory Board; 1315 East-West Highway, Room 11142; Silver Spring, Maryland 20910.

FOR FURTHER INFORMATION CONTACT: Dr. Michael Uhart at the address given above; telephone (301) 713-9121 or fax (301) 713-3515.

SUPPLEMENTARY INFORMATION: SAB activities and advice provide necessary input to ensure that NOAA science programs are of the highest quality and provide optimal support to resource management and environmental assessment and prediction. The panel provides advice to the Under Secretary of Commerce for Oceans and Atmosphere on such matters as:

(a) climate monitoring, assessment, and prediction;

(b) recovering protected and endangered species;

(c) R & D leading to advances in short-term weather warning and forecast services;

(d) the effective collection, management, and utilization of environmental data;

(e) assessment, development, utilization, and conservation of ocean and coastal resources;

(f) the integration of technology and scientific information into decision-making and operational processes; and

(g) such other matters as the Under Secretary refers to the panel for review and advice.

The SAB is to consist of 15 members reflecting the full breadth of NOAA's areas of responsibility. The SAB meets at least twice each year, exclusive of subcommittee, task force, and working group meetings. Panel members must be willing to participate in periodic reviews of the conduct, support, and use of science in NOAA laboratories and programs. Panel members are appointed for a 3-year term.

Dated: May 7, 2001.
Louisa Koch,
Deputy Assistant Administrator, Office of Oceanic and Atmospheric Research.

[FR Doc. 01-11994 Filed 5-11-01; 8:45 am]

BILLING CODE 3510-KD-M